DEPARTMENT OF TRANSPORTATION

National Highway Traffic Safety Administration

[Docket No. NHTSA-2007-28734; Notice 1]

DaimlerChrysler Corporation, Receipt of Petition for Decision of Inconsequential Noncompliance

DaimlerChrysler Corporation (DCC) has determined that certain model year 2007 motor vehicles that it produced between May 8, 2006 and March 16, 2007 do not comply with paragraph S4.3(d) of 49 CFR 571.110, Federal Motor Vehicle Safety Standard (FMVSS) No. 110, Tire Selection and Rims for Motor Vehicles With a GVWR of 4,536 Kilograms (10,000 pounds) or Less. DCC has filed an appropriate report pursuant to 49 CFR Part 573, Defect and Noncompliance Responsibility and Reports.

Pursuant to 49 U.S.C. 30118(d) and 30120(h), DCC has petitioned for an exemption from the notification and remedy requirements of 49 U.S.C. Chapter 301 on the basis that this noncompliance is inconsequential to motor vehicle safety.

This notice of receipt of DCC's petition is published under 49 U.S.C. 30118 and 30120 and does not represent any agency decision or other exercise of judgment concerning the merits of the petition.

Affected are a total of approximately 3,037 model year 2007 Dodge Dakota (Dakota) pickup trucks produced between May 8, 2006 and March 16, 2007. Paragraph S4.3(d) of FMVSS No. 110 requires:

Vehicles S4.3 Placard. Each vehicle, except for a trailer or incomplete vehicle, shall show the information specified in S4.3(a) through (g),* * *

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation;* * *

By way of background, DCC explains that model year 2006 Dakotas were equipped with five P265/65R17 tires—the four tires installed on the vehicle at time of sale and the spare tire. The vehicle placard on the 2006 model year Dakota accurately reflected the sizes of the tires. DCC further explained that they decided to equip the subsequent model year 2007 Dakota with P265/60R18 tires. However, prior to the actual launch of the MY 2007 vehicles, DCC discovered that a P265/60R18 tire would not fit properly in the spare tire location on the vehicle. Therefore, DCC decided to retain the P265/65R17 tire as the spare tire, while going forward with the decision to use P265/60R18 tires as in-service original equipment. Unfortunately, the vehicle placards affixed to the subject model year 2007 Dakotas were not revised to reflect the decision to use the P265/65R17 spare tire, therefore the vehicles do not comply with S4.3(d).

DCC argues that the noncompliance, the erroneous designation of the size of the spare tire on the vehicle placard, does not have any adverse safety impact. In DCC's estimation, the P265/60R18 tire and the P265/65R17 tire are equivalent. They support this estimation by stating that the recommended cold tire inflation pressure specified on the vehicle placard—240 kPa (35 psi)—is appropriate for either P265/60R18 or P265/65R17 tires when mounted for service on the Dakota, and that the Tire & Rim Association Handbook confirms that the P265/65R17 spare tire supplied with the vehicles can carry more weight at 35 psi (2,124 pounds) than the P265/60R18 tire referred to on the erroneous vehicle placard (2,064 pounds).

DCC states that all other information provided on the 2007 Dakota vehicle placard is correct.

In summation, DCC states that it has corrected the problem that caused these errors so that they will not be repeated in future production and that it believes that because the noncompliance is inconsequential to motor vehicle safety that no corrective action is warranted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery: U.S. Department of Transportation, Docket Operations, M-30, West Building Ground Floor, Room W12-140, 1200 New Jersey Avenue, SE., Washington, DC 20590. The Docket Section is open on weekdays from 10 a.m. to 5 p.m. except Federal Holidays.

c. Electronically: until September 29, 2007, by logging onto the DOT Docket Management System Web site at http://dms.dot.gov; after September 28, 2007, by logging onto the Federal Docket Management System Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 5, 2007.

Authority: 49 U.S.C. 30118, 30120: delegations of authority at CFR 1.50 and 501.8.

Issued on: September 27, 2007.
Claude H. Harris,
Director, Office of Vehicle Safety Compliance.

[FR Doc. E7-19602 Filed 10-3-07; 8:45 am]

BILLING CODE 4910-59-P